DEPARTMENT OF COMMERCE

International Trade Administration

[A-201-836]

Light-Walled Rectangular Pipe and Tube from Mexico; Extension of Time Limit for Preliminary Results of Antidumping Duty Administrative Review

AGENCY: Import Administration, International Trade Administration, Department of Commerce.

EFFECTIVE DATE: May 10, 2010.

FOR FURTHER INFORMATION CONTACT: Brian Davis (Regiomontana) or Ericka Ukrow (Maquilacero), AD/CVD Operations, Office 7, Import Administration, International Trade Administration, U.S. Department of Commerce, 14th Street and Constitution Avenue NW, Washington, DC 20230; telephone: (202) 482-7924 or (202) 482-0405, respectively.

SUPPLEMENTARY INFORMATION:

Background

On September 22, 2009, the Department of Commerce (the Department) published in the Federal Register the initiation of administrative review of the antidumping duty order on light-walled rectangular pipe and tube from Mexico, covering the period of January 30, 2008, to July 31, 2009. See Initiation of Antidumping and Countervailing Duty Administrative Reviews and Request for Revocation in Part, 74 FR 48224 (September 22, 2009). The current deadline for the preliminary results of this review is May 10, 2010.¹

¹ As explained in the memorandum from the Deputy Assistant Secretary for Import Administration, the Department has exercised its discretion to toll deadlines for the duration of the closure of the federal government from February 5, through February 12, 2010. Thus, all deadlines in this segment of the proceeding have been extended by seven days. The revised deadline for the preliminary results of this review is now May 10, 2010. See Memorandum to the Record from Ronald Lorentzen, DAS for Import Administration, regarding “Tolling of Administrative Deadlines As a Result of the Government Closure During the Recent Snowstorm,” dated February 12, 2010.

Extension of Time Limits for Preliminary Results of Review

Section 751(a)(3)(A) of the Tariff Act of 1930, as amended (the Act), requires that the Department complete the preliminary results of an administrative review within 245 days after the last day of the anniversary month of an order for which a review is requested. However, if it is not practicable to complete the review within this time period, section 751(a)(3)(A) of the Act allows the Department to extend the time limit for the preliminary results to a maximum of 365 days after the last day of the anniversary month of an order for which a review is requested.

The Department finds that it is not practicable to complete the preliminary results of this review within the original time frame because additional information from both mandatory respondents, Regiomontana S.A. de C.V. (Regiomontana) and Maquilacero S.A. de C.V. (Maquilacero), is necessary to complete our analysis. Additionally, we intend to conduct sales and cost verifications of Regiomontana's responses and release our verification reports prior to issuance of the preliminary results. Because the Department requires additional time to address the above, it is not practicable to complete this review within the original time limit (i.e., May 10, 2010). Accordingly, the Department is extending the time limit for completion of the preliminary results of this administrative review by 120 days (i.e., September 7, 2010), in accordance with section 751(a)(3)(A) of the Act and 19 CFR 351.213(h)(2). We intend to issue the final results no later than 120 days after publication of the preliminary results notice.

This extension is issued and published in accordance with sections 751(a)(3)(A) and 777(i) of the Act.

Dated: May 4, 2010.
John M. Andersen,
Acting Deputy Assistant Secretary for Antidumping and Countervailing Duty Operations.

[FR Doc. 2010-11021 Filed 5-7-10; 8:45 am]

BILLING CODE 3510-DS-S